DEPARTMENT OF ENERGY

Federal Energy Regulatory Commission

[Docket No. CP06-469-000]

Dominion Cove Point LNG, LP; Notice of Application

October 13, 2006.

Take notice that on September 29, 2006, as supplemented on October 10, 2006, Dominion Cove Point LNG, LP (Cove Point LNG) filed an application in Docket No. CP06-469-000, pursuant to section 3 of the Natural Gas Act (NGA), for authority to construct, install, own, operate and maintain certain facilities at the Cove Point LNG import terminal at Cove Point, Maryland (Post Expansion Send-out Project). The details of this proposal are more fully set forth in the application that is on file with the Commission and open to public inspection.

The filing may also be viewed on the web at http://www.ferc.gov using the “eLibrary” link. Enter the docket number excluding the last three digits in the docket number field to access the document. For assistance, please contact FERC Online Support at FERCOnlineSupport@ferc.gov or toll free at (866) 208-3676, or TTY (202) 502-8659.

Any questions regarding this application should be directed to Anne E. Bomar, Vice President, Federal Regulations, Dominion Resources, Inc., 120 Tredegar Street, Richmond, Virginia 23219, or by phone at (804) 819-2134.

Cove Point LNG says that the Post Expansion Send-out Project is designed to add three spare LNG send-out pumps, two auxiliary heaters to be used as an alternate heating source for existing waste heat vaporizers, and related electrical infrastructure improvements at the Dominion Cove Point LNG import terminal located in Calvert County, Maryland. The proposed facilities will also enhance the reliability of service at the LNG terminal for the Rate Schedule LTD-1 customers (those who import LNG) under the Incremental Sendout Quantity (ISQ) provisions of Rate Schedule LTD-1, as shown in Exhibit P of the application. These LNG terminal facility improvements are expected to cost more than $21 million, however Cove Point LNG says that its proposed changes to the ISQ service in Rate Schedule LTD-1 does not create a subsidy, nor will it degrade service to existing customers or result in undue discrimination. Cove Point LNG requests that the Commission grant the requested authorization at the earliest practicable date, in order to ensure an in-service date of August 2008.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Persons who wish to comment only on the environmental review of this project, or in support of or in opposition to this project, should submit an original and two copies of their comments to the Secretary of the Commission. Environmental commentors will be placed on the Commission's environmental mailing list, will receive copies of the environmental documents, and will be notified of meetings associated with the Commission's environmental review process. Environmental commentors will not be required to serve copies of filed documents on all other parties. The Commission's rules require that persons filing comments in opposition to the project provide copies of their protests only to the applicant. However, the non-party commentors will not receive copies of all documents filed by other parties or issued by the Commission (except for the mailing of environmental documents issued by the Commission) and will not have the right to seek court review of the Commission's final order.

The Commission strongly encourages electronic filings of comments, protests, and interventions via the Internet in lieu of paper. See 18 CFR 385.2001(a)(1)(iii) and the instructions on the Commission's Web site (http://www.ferc.gov) under the “e-Filing” link.

Comment Date: 5 p.m. Eastern Time on November 3, 2006.

Magalie R. Salas,
Secretary.

[FR Doc. E6-17471 Filed 10-18-06; 8:45 am]

BILLING CODE 6717-01-P